DEPARTMENT OF AGRICULTURE

Animal and Plant Health Inspection Service

[Docket No. 00-008-2]

Imported Fire Ant

AGENCY: Animal and Plant Health Inspection Service, USDA.

ACTION: Notice.

SUMMARY: The Animal and Plant Health Inspection Service will continue to administer its imported fire ant program.

FOR FURTHER INFORMATION CONTACT: Ron Milberg, Operations Officer, PPQ, APHIS, 4700 River Road, Unit 134, Riverdale, MD 20737-1236; (301) 734-5255.

SUPPLEMENTARY INFORMATION: Our imported fire ant program is based on our imported fire ant regulations (7 CFR 301.81-1 through 301.81-10, referred to below as the regulations). The regulations govern the interstate movement of regulated articles from areas quarantined because of the imported fire ant. Section 301.81-2 of the regulations provides a list of articles regulated because of the imported fire ant. Regulated articles are imported fire ant queens and reproducing colonies of imported fire ants, soil (except potting soil shipped in its original container), baled hay or straw stored in direct contact with the ground, nursery stock (except plants maintained indoors in a home or office environment and not for sale), used soil-moving equipment (unless removed of all noncompacted soil), and any other article or means of conveyance determined to present a risk of spreading imported fire ant. Section 301.81-3 of the regulations lists areas quarantined because of the imported fire ant. Quarantined areas are all or portions of the following States and territories: Alabama, Arkansas, California, Florida, Georgia, Louisiana, Mississippi, New Mexico, North Carolina, Oklahoma, Puerto Rico, South Carolina, Tennessee, and Texas. Sections 301.81-4 through 301.81-10 provide requirements for moving regulated articles interstate from quarantined areas to nonquarantined areas. These sections include requirements for certificates and limited permits and for treatment of regulated articles.

On March 2, 2000, we published in the Federal Register (65 FR 11281-11283, Docket No. 00-008-1), a notice announcing four public meetings to discuss how we should administer our imported fire ant program in light of reduced funding. The meetings were held in Raleigh, NC, on March 21, 2000; Orlando, FL, on March 23, 2000; Austin, TX, on March 28, 2000; and Santa Ana, CA, on March 30, 2000. We also solicited written comments on our notice for 60 days, ending May 1, 2000.

In the notice, we asked the public to comment on the following three options: (1) Maintain our imported fire ant program with minimal Federal regulatory activity, in line with Fiscal Year 2000 funding; (2) eliminate the imported fire ant regulations (i.e., rescind the Federal quarantine) and develop model guidelines for States to use in harmonizing their quarantines; or (3) eliminate the imported fire ant regulations (i.e., rescind the Federal quarantine) and establish a voluntary nursery self-certification program.

Approximately 105 individuals representing industry and cooperating States attended the public meetings. In addition, we received 58 written comments in response to the notice by the May 1, 2000, close of the comment period. They were from representatives of industry, cooperating States, and other interested individuals. With one exception, those who spoke at the public meetings and those who submitted written comments supported retention of the current imported fire ant program with a significant increase in funding for the program. They stated that the program enhances producers' ability to move regulated articles interstate. One commenter recommended enacting more stringent regulations in order to prevent the spread of the imported fire ant to the State of Hawaii. The majority of respondents also supported the National Plant Board's proposal for $7.5 million in congressional funding for the imported fire ant program and the Gulfport Plant Protection Station's unique methods development work.

Given the public support for our imported fire ant program, we will maintain the program in line with current funding. Therefore, our regulations will continue to provide uniform standards for the regulated industry, along with consistent interstate shipping requirements. Along with cooperating States, we will also continue to enforce the Federal quarantine. This means that when alerted by States, APHIS personnel will investigate noncompliance with the regulations and will examine the origin and pathway of introduction of imported fire ants found on regulated articles. In addition, we will continue to develop new regulatory treatments and nursery compliance protocols to control or reduce imported fire ant populations in nursery production areas. For the development of new regulatory treatments, about $350,000 is allocated annually to our plant protection station in Gulfport, MS. To our knowledge, the Gulfport Plant Protection Station is the only facility in the country that is developing regulatory treatments for the imported fire ant.

In response to public support for increased funding for our imported fire ant program, Congress restored about $2.1 million for the imported fire ant program in Fiscal Year 2001. The majority of this appropriation will be distributed to States for enforcement and regulatory activities. We will retain a small percentage for administrative costs.

Done in Washington, DC, this 28th day of February 2001.
Bobby R. Acord,
Acting Administrator, Animal and Plant Health Inspection Service.

[FR Doc. 01-5421 Filed 3-5-01; 8:45 am]

BILLING CODE 3410-34-P